DEPARTMENT OF LABOR

Employment and Training Administration

Notice of Determinations Regarding Eligibility To Apply for Worker Adjustment Assistance and Alternative Trade Adjustment Assistance

In accordance with section 223 of the Trade Act of 1974, as amended (19 U.S.C. 2273) the Department of Labor herein presents summaries of determinations regarding eligibility to apply for trade adjustment assistance for workers (TA-W) number and alternative trade adjustment assistance (ATAA) by (TA-W) number issued during the period of June, 2006.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issued a certification of eligibility to apply for Alternative Trade Adjustment Assistance (ATAA) for older workers, the group eligibility requirements of section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations For Worker Adjustment Assistance

The following certifications have been issued. The date following the company name and location of each determination references the impact date for all workers of such determination.

The following certifications have been issued. The requirements of Section 222(a)(2)(A) (increased imports) of the Trade Act have been met.

TA-W-59,469; Simclar, Inc., On-Site Leased Workers of Teamsource, Round Rock, TX: May 24, 2005.

TA-W-59,449; Technical Associates, Leased Wkrs at the R.J. Reynolds Tobacco Co., Macon, GA: June 24, 2006.

The following certifications have been issued. The requirements of Section 222(a)(2)(B) (shift in production) of the Trade Act have been met.

TA-W-59,249; New Breed Corp., Workers at Panasonic Home Appliances Co., Danville, KY: April 17, 2005.

TA-W-59,417; Laser Technologies and Services, Inc., A Division of Mitsubishi Chemical America, Exton, PA: May 17, 2005.

TA-W-59,499; Dana Corporation, Coupled Product, Fluid Routing Products Group, Mitchell, IN: May 26, 2005.

TA-W-59,396; GE Advanced Materials—Quartz, Quartz Willoughby Quartz Plant, Willoughby, OH: May 15, 2005.

The following certifications have been issued. The requirements of Section 222(b) (supplier to a firm whose workers are certified eligible to apply for TAA) of the Trade Act have been met.

TA-W-59,490; Pace Industries, Georgia Warehouse, Midland, GA: May 30, 2005.

TA-W-58984; Independent Steel Casting Co., Inc., New Buffalo, MI: March 2, 2005.

The following certifications have been issued. The requirements of Section 222(b) (downstream producer for a firm whose workers are certified eligible to apply for TAA based on increased imports from or a shift in production to Mexico or Canada) of the Trade Act have been met.

None

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-59,397; Tyden Seal Company (The), A Subsidiary of Tyden Group, Inc., Hastings, MI: May 15, 2005.

TA-W-59,401; Worth Sports, A Subsidiary of Rawlings Sporting Goods Co., Tullahoma, TN: April 3, 2006.

TA-W-59,401A; Worth Sports, A Subsidiary of Rawlings Sporting Goods Co., Tullahoma, TN: April 3, 2006.

TA-W-59,433; BBA Nonwovens Simpsonville, Inc., A Subsidiary of BBA Group PLC, Simpsonville, SC: May 17, 2005.

TA-W-59,441; C.N.C. Department of Four Seasons, Division of Standard Motor Products, Grapevine, TX: May 22, 2005.

TA-W-59,462; Hugo Bosca Company, Inc., Springfield, OH: May 23, 2005.

TA-W-59,247; Saint Gobain Advanced Ceramics, Microelectronics Division, Sanborn, NY: April 16, 2005.

TA-W-59,332; Plastic Technology Group, Inc., On-Site Leased Wkrs of Select Personnel Services, Santa Ana, CA: May 4, 2005.

TA-W-59,349; P.H. Glatfelter Co., dba Glatfelter, Neenah, WI: January 10, 2006.

TA-W-59,398; Progress Casting Group, Inc., Albert Lea, MN: May 15, 2005.

TA-W-59,297; Tooling Supply NAFTA, Fair Lawn, NJ: April 25, 2005.

TA-W-59,082; Trinity Pottery, Inc., Rice Lake, WI: March 21, 2005.

The following certifications have been issued. The requirements of Section 222(a)(2)(B) (shift in production) and Section 246(a)(3)(A)(ii) of the Trade Act have been met.

TA-W-59,258; Johnson Controls, Inc., Interiors Experience Facility, Holland, MI: April 20, 2005.

TA-W-59,261; Gould Packaging, Inc., A Division of LePage's 2000, Inc., Dekalb, IL: April 20, 2005.

TA-W-59,271; World Plastic Extruders, Inc., Moonachie, NJ: April 24, 2005.

TA-W-59,295; Sony Technology Center-Pittsburgh, LCD Rear Projection Assembly, Mt. Pleasant, PA: April 27, 2005.

TA-W-59,343; NABCO, Inc., A Division of Remy International, Inc., Kaleva, MI: May 5, 2005.

TA-W-59,343A; NABCO, Inc., A Division of Remy International, Inc., Reed City, MI: May 5, 2005.

TA-W-59,412; Archway and Mother's Cake & Cookie Co., East Division, Oakland, CA: May 16, 2005.

TA-W-59,414; Bemis Company, Inc., Paper Packaging Division, Peoria, IL: April 25, 2005.

TA-W-59,461; American Knitting Corp., Allentown, PA: May 22, 2005.

TA-W-59,475; TRW Automotive Steering Plant, Sterling Heights, MI: April 22, 2006.

TA-W-59,492; Brand Science LLC, dba LeSportsac, Dandridge, TN: May 25, 2005.

TA-W-59,354; Atlas Engineering, A Division of Penn Engineering, Kent, OH: May 2, 2005.

TA-W-59,471; Tigra USA, West Jefferson, NC: May 23, 2005.

The following certifications have been issued. The requirements of Section 222(b) (supplier to a firm whose workers are certified eligible to apply for TAA) and section 246(a)(3)(A)(ii) of the Trade Act have been met.

TA-W-59,342; Sheridan Industries, Inc., Albion, MI: May 4, 2005.

TA-W-59,393; SMM USA, Inc., Oceanside, CA: May 12, 2005.

The following certifications have been issued. The requirements of Section 222(b) (downstream producer for a firm whose workers are certified eligible to apply for TAA based on increased imports from or a shift in production to Mexico or Canada) and Section 246(a)(3)(A)(ii) of the Trade Act have been met.

TA-W-59,482; Country House Plastics and Finishing LLC, Gilmanton, NH: May 26, 2005.

Negative Determinations for Alternative Trade Adjustment Assistance

In the following cases, it has been determined that the requirements of 246(a)(3)(A)(ii) have not been met for the reasons specified.

The Department as determined that criterion (1) of Section 246 has not been met. Workers at the firm are 50 years of age or older.

TA-W-59,449; Technical Associates, Leased Wkrs at the R.J. Reynolds Tobacco Co., Macon, GA: June 24, 2006.

TA-W-59,490; Pace Industries, Georgia Warehouse, Midland, GA: May 30, 2005.

The Department as determined that criterion (2) of Section 246 has not been met. Workers at the firm possess skills that are easily transferable.

TA-W-59,469; Simclar, Inc., On-Site Leased Workers of Teamsource, Round Rock, TX: May 24, 2005.

TA-W-59,249; New Breed Corp., Workers at Panasonic Home Appliances Co., Danville, KY: April 17, 2005.

TA-W-59,396; GE Advanced Materials—Quartz, Quartz Willoughby Quartz Plant, Willoughby, OH: May 15, 2005.

TA-W-59,417; Laser Technologies and Services, Inc., A Division of Mitsubish Chemcial America, Exton, PA: May 17, 2005.

TA-W-59,499; Dana Corporation, Coupled Product, Fluid Routing Products Group, Mitchell, IN: May 26, 2005.

TA-W-58984; Independent Steel Casting Co., Inc., New Buffalo, MI: March 2, 2005.

The Department as determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Since the workers of the firm are denied eligibility to apply for TAA, the workers cannot be certified eligible for ATAA.

The investigation revealed that criteria (a)(2)(A)(I.A.) and (a)(2)(B)(II.A.) (employment decline) have not been met.

TA-W-59,436; Jacquard, LLC, Burlington House Division, Cliffside, NC.

TA-W-59,532; Hardwick Knitted Fabrics, New York, NY.

The investigation revealed that criteria (a)(2)(A)(I.B.) (Sales or production, or both, did not decline) and (a)(2)(B)(II.B.) (shift in production to a foreign country) have not been met.

TA-W-59,498; Reilly Industries, Carbon, Chemicals and Coating Division, Granite City, IL.

The investigation revealed that criteria (a)(2)(A)(I.C.) (increased imports) and (a)(2)(B)(II.B.) (shift in production to a foreign country) have not been met.

TA-W-58,844; All Phase Circuits, Inc., Central Point, OR.

TA-W-59,250; Kodak Graphics Solutions and Services, Kearneysville, WV.

TA-W-59,365; Napco Window Systems, Sarver, PA.

TA-W-59,420; Modern Plastic Technology, Moldable Plastics Technology, Port Huron Twp., MI.

TA-W-59,430; Modine Manufacturing, Logansport, IN.

The investigation revealed that the predominate cause of worker separations is unrelated to criteria (a)(2)(A)(I.C.) (increased imports) and (a)(2)(B)(II.C) (shift in production to a foreign country).

TA-W-59,440; SelecTrucks of Massachusetts, Wholly Owned by Freightliner Market, Worcester, MA.

TA-W-59,463; Ash Grove Cement Co., Rivergate Lime Plant, Portland, OR.

The workers' firm does not produce an article as required for certification under Section 222 of the Trade Act of 1974.

TA-W-59,347; Health Fitness Corp., Atlanta, GA.

TA-W-59,464; MTD Southwest, Inc., A Subsidiary of MTD Products, Tucson, AZ.

TA-W-59,466; J-Star Bodco, Inc., A Subsidiary of Bodco, Inc., Fort Atkinson, WI.

TA-W-59,470; ABN AMRO Mortgage Group, Ann Arbor, MI.

TA-W-59,473; Briggs Plumbing Products, Flora, IN.

TA-W-59,486; LoanPro, LLC, Horsham, PA.

TA-W-59,495; PACE Airlines, Inc., Winston Salem, NC.

TA-W-59,496; Arrow Electronics, Inc., Foothill Ranch, CA.

TA-W-59,508; Arrow Electronics, Inc., Denver Financial Services Corporation, Englewood, CO.

TA-W-59,509; Spencer Products, Walnut Ridge, AR.

TA-W-59,526; Compex Legal Services, Asheville, NC.

TA-W-59,547; Newstech PA LP, Northampton, PA.

The investigation revealed that criteria of Section 222(b)(2) has not been met. The workers' firm (or subdivision) is not a supplier to or a downstream producer for a firm whose workers were certified eligible to apply for TAA.

None.

I hereby certify that the aforementioned determinations were issued during the month of June 2006. Copies of These determinations are available for inspection in Room C-5311, U.S. Department of Labor, 200 Constitution Avenue, NW., Washington, DC 20210 during normal business hours or will be mailed to persons who write to the above address.

Dated: June 28, 2006.
Erica R. Cantor,
Director, Division of Trade Adjustment Assistance.

[FR Doc. E6-11089 Filed 7-13-06; 8:45 am]

BILLING CODE 4510-30-P